DEPARTMENT OF COMMERCE

National Oceanic and Atmospheric Administration

Notice To Extend the Public Comment Period for the Draft Environmental Impact Statement and Draft Management Plan for the Proposed Designation of the He'eia National Estuarine Research Reserve in Hawai'i

AGENCY: Office for Coastal Management, National Ocean Service, National Oceanic and Atmospheric Administration, Department of Commerce.

ACTION: Notification of extension of public comment period for the Draft Environmental Impact Statement and Draft Management Plan for the proposed designation of the He'eia National Estuarine Research Reserve in Hawai'i.

SUMMARY: The National Oceanic and Atmospheric Administration (NOAA), Office for Coastal Management (OCM) is issuing this notice to advise the public of a 13-day extension to the public comment period on the Draft Environmental Impact Statement and Draft Management Plan (DEIS/DMP) prepared for the proposed designation of the He'eia National Estuarine Research Reserve in Hawai'i. The initial Notice of Availability was published in the Federal Register on September 2, 2016 (81 FR 60676), and established a public comment period from September 2, 2016 through October 17, 2016. NOAA OCM is hereby extending the deadline for submitting public comments on this matter to October 30, 2016. NOAA will consider all relevant comments received by October 30, 2016. The October 6, 2016, date of the associated public hearing described in the September 2, 2016, Notice of Availability remains unchanged.

DATES: NOAA is accepting public comments through 5:00 p.m. (HST), October 30, 2016. NOAA is soliciting the views of interested persons and organizations on the adequacy of the DEIS/DMP. All relevant comments received at the hearing and during the extended public comment period ending 5:00 p.m. (HST), October 30, 2016, will be considered in the preparation of the Final Environmental Impact Statement (FEIS) and Final Management Plan (FMP).

ADDRESSES: Comments may be submitted by any one of the following methods:

• Electronic Submissions: Submit all electronic public comments via the Federal e-Rulemaking Portal. Go to www.regulations.gov/#!docketDetail;D=NOAA-NOS-2016-0114, click the “Comment Now!” icon, complete the required fields and enter or attach your comments.

• Mail: Joelle Gore, Stewardship Division, Office for Coastal Management, National Ocean Service, NOAA, 1305 East West Highway, N/ORM2, Room 10622 Silver Spring, MD 20910.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible.

FOR FURTHER INFORMATION CONTACT: Jean Tanimoto, Coastal Management Specialist, Policy, Planning, and Communications Division, Office for Coastal Management at (808) 725-5253 or via email at jean.tanimoto@noaa.gov.

Electronic copies of the Draft Environmental Impact Statement and Draft Management Plan may be found on the OCM Web site at http://coast.noaa.gov/czm/compliance/ or may be obtained upon request from coastal.info@noaa.gov.

Dated: October 5, 2016.
Keelin Kuipers,
Division Chief, Policy, Planning and Communication, Office for Coastal Management, National Ocean Service, National Oceanic and Atmospheric Administration.

(Federal Domestic Assistance Catalog 11.420, Coastal Zone Management Estuarine Research Reserves)

[FR Doc. 2016-24679 Filed 10-12-16; 8:45 am]

BILLING CODE 3510-08-P